DEPARTMENT OF ENERGY

Environmental Management Site-Specific Advisory Board Chairs

AGENCY: Department of Energy.

ACTION: Notice of open meeting.

SUMMARY: This notice announces a meeting of the Environmental Management Site-Specific Advisory Board (EM SSAB) Chairs. The Federal Advisory Committee Act (Pub. L. 92-463, 86 Stat. 770) requires that public notice of this meeting be announced in the Federal Register.

DATES: Wednesday, October 16, 2013, 8:00 a.m.-5:00 p.m.; Thursday, October 17, 2013, 8:00 a.m.-12:15 p.m.

ADDRESSES: Deer Creek Lodge and Conference Center, P.O. Box 125, 22300 State Park Road 20, Mt. Sterling, OH 43143.

FOR FURTHER INFORMATION CONTACT: Catherine Alexander, Designated Federal Officer, U.S. Department of Energy, 1000 Independence Avenue SW., Washington, DC 20585; Phone: (202) 586-7711.

SUPPLEMENTARY INFORMATION: Purpose of the Board: The purpose of the Board is to make recommendations to DOE-EM and site management in the areas of environmental restoration, waste management, and related activities.

Tentative Agenda Topics:

Wednesday, October 16, 2013

○ EM Program Update

○ EM SSAB Chairs' Round Robin: Topics, Achievements, and Accomplishments

○ EM Headquarters Budget Update

○ EM Headquarters Waste Disposition Strategies

○ Public Comment Period

Thursday October 17, 2013

○ DOE Headquarters News and Views

○ Educational Session: Life after EM Mission is Complete

Public Participation: The EM SSAB Chairs welcome the attendance of the public at their advisory committee meetings and will make every effort to accommodate persons with physical disabilities or special needs. If you require special accommodations due to a disability, please contact Catherine Alexander at least seven days in advance of the meeting at the phone number listed above. Written statements may be filed either before or after the meeting with the Designated Federal Officer, Catherine Alexander, at the address or telephone listed above. Individuals who wish to make oral statements pertaining to agenda items should also contact Catherine Alexander. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling Catherine Alexander at the address or phone number listed above. Minutes will also be available at the following Web site: http://www.em.doe.gov/stakepages/ssabchairs.aspx.

Issued at Washington, DC on September 20, 2013.
LaTanya R. Butler,
Acting Deputy Committee Management Officer.

[FR Doc. 2013-23329 Filed 9-24-13; 8:45 am]

BILLING CODE 6450-01-P